NUCLEAR REGULATORY COMMISSION

Request for Public Comment on the First Year of Initial Implementation of the Reactor Oversight Process

AGENCY: Nuclear Regulatory Commission.

ACTION: Request for public comment.

SUMMARY: The Nuclear Regulatory Commission (NRC) is approaching completion of the first year of initial implementation of the Reactor Oversight Process (ROP). In response to the Commission's Staff Requirements Memorandum (SRM-00-0049), dated May 17, 2000, the NRC is preparing a report summarizing the lessons learned during the first year of initial implementation of the ROP. The NRC is requesting comments/information from members of the public, licensees, and interest groups related to the initial implementation of the ROP which began at the 103 commercial nuclear power plant sites (except D.C. Cook which is being phased into the ROP) on April 2, 2000.

The NRC is specifically requesting comments on the questions listed at the end of this notice. The NRC is also conducting a public workshop, tentatively scheduled for late March 2001, to discuss lessons learned. In support of this workshop, the NRC is seeking public feedback on key issues that should be considered during the workshop.

DATES: (1) Submit potential topic areas for consideration during the public ROP workshop by February 23, 2001. (2) Submit comments on the ROP's first year of initial implementation by April 13, 2001. Comments received after these dates will be considered if it is practical to do so, but the Commission is able to only ensure consideration for comments received on or before these dates.

ADDRESSES: Comments may be sent to David Meyer, Chief, Rules and Directives Branch, Office of Administration, Mail Stop T6D59, U.S. Nuclear Regulatory Commission, Washington, DC 20555-0001or electronically to e-mail: REACTOROVERSIGHT@nrc.gov

Deliver comments to: 11554 Rockville Pike, Rockville, Maryland, between 7:30 am and 4:15 pm on Federal workdays.

Certain documents related to this notice, including comments received, may be examined and/or copied for a fee at the NRC Public Document Room, One White Flint North, Room O1-F15, 11555 Rockville Pike, Rockville, Maryland.

Documents created or received at the NRC after November 1, 1999, are also available electronically at the NRC's Public Electronic Reading Room on the Internet at http://www.nrc.gov/NRC/ADAMS/index.html. From this site, the public can gain entry into the NRC's Agencywide Document Access and Management System (ADAMS), which provides text and image files of NRC's public documents. For more information, contact the NRC Public Document Room (PDR) Reference staff at 1-800-397-4209, 301-415-4737 or by email to pdr@nrc.gov.

FOR FURTHER INFORMATION CONTACT: August K. Spector, Office of Nuclear Reactor Regulation, U.S. Nuclear Regulatory Commission, Washington DC 20555-0001, telephone (301) 415-2140, e-mail: REACTOROVERSIGHT@nrc.gov

SUPPLEMENTARY INFORMATION:

Program Overview

The mission of the NRC is to regulate the civilian uses of nuclear materials in the United States to protect the public health and safety, protect the environment, and promote the common defense and security by preventing the proliferation of nuclear material. This mission is accomplished through:

• Licensing nuclear facilities and the possession, use and disposal of nuclear materials;

• Developing and implementing requirements governing licensed activities; and

• Inspection and enforcement of licensee activities to assure compliance with these requirements and the law.

While the responsibility of the NRC is to monitor and regulate the performance of the licensee, primary responsibility for safe operation and handling of nuclear materials rests with the licensee.

During the past 25 years, the nuclear industry in the United States has matured to one where licensees and the NRC have learned much about how to safely operate nuclear facilities and handle nuclear materials. Recently, the NRC has begun to implement more effective and efficient inspection, assessment, and enforcement approaches which apply insights from years of regulatory oversight and nuclear facility operation. The NRC has also incorporated risk-informed principles and techniques into its oversight activities. A risk-informed approach to oversight enables the NRC to more appropriately apply its resources to oversight of operational areas which contribute most to safe operation at nuclear facilities.

After conducting a six-month pilot program in 1999, assessing the results, and incorporating the lessons learned, the NRC began implementation of the revised reactor oversight process (ROP) at all 103 nuclear facilities (except D. C. Cook) on April 2, 2000. Inherent in the ROP are the following key NRC performance goals:

1. Maintain safety by establishing and implementing a regulatory oversight process that assures that plants are operated safely;

2. Enhance public confidence by increasing the predictability, consistency, and objectivity of the oversight process, providing timely and understandable information, and providing opportunities for meaningful involvement by the public;

3. Improve effectiveness, efficiency, and realism of the oversight process by implementing a process of continuous improvement; and

4. Reduce unnecessary regulatory burden through the consistent application of the process and incorporation of lessons learned.

Key elements of the ROP include revised NRC inspection procedures, plant performance indicators, a significance determination process and an assessment program which incorporates various risk-informed thresholds to help determine the level of NRC oversight and enforcement. Since process development began in 1998, the NRC has frequently communicated with the public by various means. These have included conducting public meetings in the vicinity of each licensed commercial nuclear power plant, issuing Federal Register Notices soliciting feedback on the process, publishing press releases about the new process, conducting multiple public workshops, placing pertinent background information in the NRC's Public Document Room, and establishing an NRC website containing easily accessible information about the new program and licensee performance. Information about specific aspects of the reactor oversight process may be obtained electronically from the following source:

www.nrc.gov/NRR/OVERSIGHT/index.html.

NRC Reactor Oversight Public Workshop

In late March 2001, the NRC is planning a public workshop intended to bring together all interested stakeholders to discuss key issues that have emerged during the first year of initial implementation of the ROP. The NRC is soliciting feedback from its public stakeholders on what topic areas should be considered during this workshop. The NRC will consider this feedback along with its own insights gained during initial implementation to develop the agenda for the workshop. Some of the areas currently under consideration include selected performance indicators, approaches to inspecting and assessing problem identification and resolution activities, inspection report thresholds, and the efficacy of certain elements of the significance determination process.

NRC Public Stakeholder Comments

The NRC continues to be interested in receiving feedback from members of the public, various public stakeholders and industry groups on their insights on the first year of initial implementation of the reactor oversight process. The NRC is specifically seeking responses to the questions listed below, which will provide the NRC with vital information regarding the initial implementation of the reactor oversight process, which can be used in continuing program improvement. A summary of responses and how the responses were considered will be included in the report submitted to the Commission on the implementation of the ROP, currently planned for June 2001.

Questions

I. Questions related to the efficacy of the overall process (As appropriate, please provide specific examples and suggestions for improvement.):

1. Does the ROP provide adequate assurance that plants are being operated safely?

2. Does the ROP provide sufficient regulatory attention to utilities with performance problems?

3. Does the ROP reduce unnecessary regulatory burden on licensees?

4. Does the ROP improve the efficiency, effectiveness, and realism of the regulatory process, focusing NRC resources on those issues with the most safety significance?

5. Has the public information associated with the ROP been appropriate to keep the public informed, in a timely and understandable fashion, of NRC activities related to plant safety?

(Examples: NRC plant performance web page, Plant Performance Indicators, NRC Inspection Reports, Assessment Letters, ROP guidance documents and implementation procedures, the NRC ROP website, press releases)

6. Does the ROP increase the predictability, consistency, clarity and objectivity of the NRC's oversight activities?

7. Has the public been afforded adequate opportunity to provide input/comments and involvement in the ROP development process?

8. Has NRC been responsive to input/comments provided by the public regarding the ROP development process?

9. Please provide any additional (brief) information or issues related to the reactor oversight process.

II. Questions related to specific ROP program areas (As appropriate, please provide specific examples and suggestions for improvement.):

1. Do the performance indicators or other aspects of the ROP create unintended consequences? (Please comment on the potential of unintended consequences associated with the counting of manual scrams in the Initiating Event Cornerstone Performance Indicators.)

2. Do any aspects of the ROP inappropriately increase regulatory burden? (Please comment on any unnecessary overlap between ROP reporting requirements with those associated with INPO, WANO, or the Maintenance Rule.)

3. Is the Significance Determination Process (SDP) usable and does it produce consistent and accurate results?

4. Are there areas of unnecessary overlap between the inspection program and the performance indicators?

5. Does the ROP assessment program provide timely, consistent, and relevant assessment information?

6. Has the NRC implemented the ROP as defined by program documents?

7. Please provide any additional (brief) information or comments on other program areas related to the reactor oversight process. Other areas of interest may be: the treatment of cross-cutting issues in the ROP, the risk-based evaluation process associated with determining event response, and the reduced subjectivity and elevated threshold for documenting issues in inspection reports.

Dated at Rockville, Maryland, this 8th day of December 2000.
For the Nuclear Regulatory Commission.
William M. Dean,
Chief, Inspection Program Branch, Division of Inspection Program Management, Office of Nuclear Reactor Regulation.

[FR Doc. 00-31876 Filed 12-13-00; 8:45 am]

BILLING CODE 7590-01-P